DEPARTMENT OF DEFENSE

Department of the Navy

Notice of Intent to Grant Exclusive Patent License; LumaCyte, LLC

AGENCY: Department of the Navy, DoD.

ACTION: Notice.

SUMMARY: The Department of the Navy hereby gives notice of its intent to grant to LumaCyte, LLC a revocable, nonassignable, exclusive license to practice in the field of use of biomedical research and medical diagnostics in the United States, the Government-owned inventions described in U.S. Patent No. 8,529,760: Optical Separator and Method for Separating Particles Suspended in a Fluid, Navy Case No. 084,517.//U.S. Patent Application No. 13/954,654: Device and Method for Laser Analysis and Separation (LAS) of Particles, Navy Case No. 101,970.//U.S. Patent Application No. 13/961,968: Separation of Colloidal Suspensions Using Laser Optical Pressure Fluidic Devices, Navy Case No. 084,517.//U.S. Patent Application No. 14/043,384: Paired Laser and Electrokinetic Separation, Manipulation, and Analysis Device, Navy Case No. 102,097 and any continuations, divisionals or re-issues thereof.

DATES: Anyone wishing to object to the grant of this license must file written objections along with supporting evidence, if any, not later than February 18, 2014.

ADDRESSES: Written objections are to be filed with the Naval Research Laboratory, Code 1004, 4555 Overlook Avenue SW, Washington, DC 20375-5320.

FOR FURTHER INFORMATION CONTACT: Rita Manak, Head, Technology Transfer Office, NRL Code 1004, 4555 Overlook Avenue SW, Washington, DC 20375-5320, telephone 202-767-3083. Due to U.S. Postal delays, please fax 202-404-7920, email: rita.manak@nrl.navy.mil or use courier delivery to expedite response.

Authority: 35 U.S.C. 207, 37 CFR Part 404.

Dated: January 24, 2014.
N. A. Hagerty-Ford,
Commander, Office of the Judge Advocate General, U.S. Navy, Federal Register Liaison Officer.

[FR Doc. 2014-01918 Filed 1-30-14; 8:45 am]

BILLING CODE 3810-FF-P